SECURITIES AND EXCHANGE COMMISSION

Sunshine Act Meeting; Federal Register Citation of Previous Announcement: [to be Announced]

Status: Closed Meeting.

Place: 100 F Street, NE., Washington, DC.

Date and Time of Previously Announced Meeting: Thursday, September 20, 2007.

Change in the Meeting: Additional Item.

The following matter will also be considered during the 2 p.m. Closed Meeting scheduled for Thursday, September 20, 2007:

A litigation matter.

Commissioner Casey, as duty officer, determined that no earlier notice thereof was possible.

At times, changes in Commission priorities require alterations in the scheduling of meeting items. For further information and to ascertain what, if any, matters have been added, deleted or postponed, please contact the Office of the Secretary at (202) 551-5400.

Dated: September 13, 2007.
Nancy M. Morris,
Secretary.

[FR Doc. E7-18381 Filed 9-17-07; 8:45 am]

BILLING CODE 8010-01-P